Title 3—

The President

Proclamation 8417 of September 15, 2009

National Hispanic Heritage Month, 2009

By the President of the United States of America

A Proclamation

The story of Hispanics in America is the story of America itself. The Hispanic community’s values—love of family, a deep and abiding faith, and a strong work ethic—are America’s values. Hispanics bring together the rich traditions of communities with centuries-old roots in America and the energy and drive of recent immigrants. Many have taken great risks to begin a new life in the hopes of achieving a better future for themselves and their families.

Hispanics have played a vital role in the moments and movements that have shaped our country. They have enriched our culture and brought creativity and innovation to everything from sports to the sciences and from the arts to our economy.

Hispanics have served with honor and distinction in every conflict since the Revolutionary War, and they have made invaluable contributions through their service to our country. They lead corporations and not-for-profits, and social movements and places of learning. They serve in government at every level from school boards to statehouses, and from city councils to Congress. And for the first time in our Nation’s history, a Latina is seated among the nine Justices of the Supreme Court of the United States.

As Hispanics continue to enrich our Nation’s character and shape our common future, they strengthen America’s promise and affirm the narrative of American unity and progress.

To honor the achievements of Hispanics in America, the Congress, by Public Law 100-402, as amended, has authorized and requested the President to issue annually a proclamation designating September 15 through October 15 as “National Hispanic Heritage Month.”

NOW, THEREFORE, I, BARACK OBAMA, President of the United States of America, do hereby proclaim September 15 through October 15, 2009, as National Hispanic Heritage Month. I call upon public officials, educators, librarians, and all the people of the United States to observe this month with appropriate ceremonies, activities, and programs.

IN WITNESS WHEREOF, I have hereunto set my hand this fifteenth day of September, in the year of our Lord two thousand nine, and of the Independence of the United States of America the two hundred and thirty-fourth.

[FR Doc. E9-22744

Filed 9-17-09; 11:15 am]

Billing code 3195-W9-P